COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and a service to the Procurement List that will be furnished by nonprofit agencies employing persons who are blind or have other severe disabilities, and deletes products and services previously furnished by such agencies.

DATES: Effective Date: 12/30/2013.

ADDRESS: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 6/28/2013 (78 FR 38952-38953); 8/9/2013 (78 FR 48656-48657); and 9/6/2013 (78 FR 54871), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

Binder, Loose-leaf, View Framed, ½″

NSN: 7510-01-462-1384—Black.

NSN: 7510-01-462-1387—White.

Binder, Loose-leaf, View Framed, 1″

NSN: 7510-01-462-1388—Navy Blue.

NSN: 7510-01-462-1390—Black.

Binder, Loose-leaf, View Framed, 1½″

NSN: 7510-01-462-1389, Black.

NSN: 7510-01-462-1391 White.

NPA: South Texas Lighthouse for the Blind, Corpus Christi, TX.

Contracting Activity: General Services Administration, New York, NY.

Coverage: A-List for the Total Government Requirement as aggregated by the General Services Administration.

Serving Bowl, Patriotic, Plastic 7Qt/MR 358.

Serving Bowl, Holiday, Plastic 7Qt/MR 370.

Chip and Dip Bowl, Holiday, Plastic/MR 373.

NPA: Industries for the Blind, Inc., West Allis, WI.

Contracting Activity: Defense Commissary Agency, Fort Lee, VA.

Coverage: C-List for the requirements of military commissaries and exchanges as aggregated by the Defense Commissary Agency.

Service

Service Type/Location: Courier Service, Michael E. DeBakey VA Medical Center, 2002 Holcombe Boulevard, Houston, TX.

NPA: Southeast Vocational Alliance, Inc., Houston, TX.

Contracting Activity: Department of Veterans Affairs, 580-Houston, Houston, TX.

Deletions

On 9/20/2013 (78 FR 57844) and 10/25/2013 (78 FR 63967-63968), the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

Flexible Erasable Wall Planners

NSN: 7510-01-600-8043—Dated 12-Month 2-Sided Laminated Wall Planner, 24″ x 37″

NSN: 7510-01-600-8028—Dated 18-month Paper Wall Planner, 24″ x 37″

NPA: The Chicago Lighthouse for People Who Are Blind or Visually Impaired, Chicago, IL

Contracting Activity: General Services Administration, FSS Household and Industrial Furniture, Arlington, VA.

Services

Service Type/Location: Integrated Prime Vendor Supply Chain Management Service [to support production, assembly, receipt, storage, packaging, preservation, delivery and related products/services for Expeditionary Force Provider (EFP) Modules and Modification System Cold Weather], US Army, Product Manager Force Sustainment Systems, Natick, MA.

NPA: ReadyOne Industries, Inc., El Paso, TX.

Contracting Activity: Dept of the Army, W6QK ACC-APG Natick, Natick, MA.

Service Type/Location: Integrated Prime Vendor, Supply Chain Management Service (inventory control, obsolescence identification, engineering support and some material procurement services), U.S. Navy, Naval Surface Warfare Center, 300 Highway 361, Crane, IN.

NPA: Knox County Association for Retarded Citizens, Inc., Vincennes, IN.

Contracting Activity: Dept of the Navy, NSWC Crane, Crane, IN.

Barry S. Lineback,
Director, Business Operations.

[FR Doc. 2013-28641 Filed 11-27-13; 8:45 am]

BILLING CODE 6353-01-P